DEPARTMENT OF THE TREASURY

Submission for OMB Review; Comment Request

August 15, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 25, 2000 to be assured of consideration.

Internal Revenue Service (IRS)

OMB Number: 1545-1547.

Form Number: IRS Form W-7A.

Type of Review: Extension.

Title: Application for Taxpayer Identification Number for Pending U.S. Adoptions.

Description: Form W-7A is used to apply for an Internal Revenue Service taxpayer identification number (an ATIN) for use in pending adoptions. An ATIN is a temporary nine-digit number issued by the IRS to individuals who are in the process of adopting a U.S. resident child but who cannot get a social security number for that child until the adoption is final.

Respondents: Individuals or households.

Estimated Number of Respondents/Recordkeepers: 50,000.

Estimated Burden Hours Per Respondent/Recordkeeper:

Learning about the law or the form | 8 min.
Preparing the form | 16 min.
Copying, assembling, and sending the form to the IRS | 16 min.

Frequency of response: On occasion.

Estimated Total Reporting/Recordkeeping Burden: 35,000 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 00-21765 Filed 8-24-00; 8:45 am]

BILLING CODE 4830-01-P